COMMODITY FUTURES TRADING COMMISSION

Privacy Act of 1974 System of Records Notice

AGENCY: Commodity Futures Trading Commission.

ACTION: Notice; publication of existence and character of a new system of records.

SUMMARY: The Commodity Futures Trading Commission is establishing a system of records under the Privacy Act of 1974 for the online collection of public comments to notices of proposed rulemakings, proposed orders, and other regulatory actions that are required to be published in the Federal Register, or applications for registration or designation, approval requests or self-certifications related to financial products or self-regulatory organization rules or rule amendments, petitions for exemption, and other input collected from the public that may not be associated with statutory or regulatory notice and comment requirements.

DATES: Comments should be postmarked by May 17, 2011. This notice will become effective without further notice, on the date which is 60 days from the date given above unless otherwise revised pursuant to comments received.

ADDRESSES: You may submit comments, identified by “Comments Online SORN,” by any of the following methods:

• Agency Web site, via its Comments Online process: http://comments.cftc.gov. Follow the instructions for submitting comments through the Web site.

• Federal eRulemaking Portal: Comments may be submitted at http://www.regulations.gov. Following the instructions for submitting comments.

• Mail: David A. Stawick, Secretary of the Commission, Commodity Futures Trading Commission, Three Lafayette Centre, 1155 21st Street, NW., Washington, DC 20581.

• Hand Delivery/Courier: Same as mail above.

Please submit your comments using only one method.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations, 17 CFR 145.9.

The Commission reserves the right, but shall have no obligation, to review, pre-screen, filter, redact, refuse or remove any or all of a submission from http://www.cftc.gov that it may deem to be inappropriate for publication, such as obscene language. All submissions that have been redacted or removed that contain comments on the merits of the notice will be retained in the public comment file and will be considered as required under all applicable laws, and may be accessible under the Freedom of Information Act.

FOR FURTHER INFORMATION CONTACT: Kathy Harman-Stokes, Chief Privacy Officer, kharman-stokes@cftc.gov, 202-418-6629, Office of the Executive Director, Commodity Futures Trading Commission, Three Lafayette Centre, 1155 21st Street, NW., Washington, DC 20581.

SUPPLEMENTARY INFORMATION:

I. Comments Online

The CFTC is obligated to collect comments on rulemakings and other regulatory action, which it timely publishes on its Web site to provide transparency in the informal rulemaking process under the Administrative Procedure Act (“APA”), 5 U.S.C. 553, and in the regulatory processes established in the Commodity Exchange Act, 7 U.S.C. 1 et seq. The CFTC also may solicit comments or other input from the public that may not be associated with statutory or regulatory notice and comment requirements. Previously, this input was received by the Commission's Office of the Secretary and incorporated into the Commission Correspondence Files, Privacy Act System of Record Notice CFTC-2.

The new “Comments Online” system will collect and store comments and input received by the Commission. Specifically, the system includes a web form on http://www.cftc.gov allowing individuals to submit their comments or input, along with their name, organization and contact information. Once submitted, the system stores this information in the Comments Online database. Any comments received by fax, postal mail or email are uploaded by personnel into this database, collecting all comments into one database. The commenter's name, organization and comment or input are automatically published to http://www.cftc.gov. The commenter's contact information, or other personal information voluntarily submitted, is not published on the Internet, unless the commenter has incorporated such information into the text of his or her comment.

During an informal rulemaking or other statutory or regulatory notice and comment process, Commission personnel may manually remove a comment from publication if the commenter withdraws his or her comments before the comment period has closed or because the comment contains obscenities or other material deemed inappropriate for publication by the Commission.¹ However, comments that are removed from publication will be retained by the Commission for consideration as required by the APA, or as part of the Commission's documentation of a comment withdrawal in the event that one is requested.

¹ The Commission reserves the right, but has no obligation, to review, pre-screen, filter, redact, refuse or remove any submission or part of a submission that it may deem inappropriate for publication, such as a comment containing obscene language. If an individual wishes to include in his/her comments information that he/she believes may be exempt from disclosure under the Freedom of Information Act, 5 U.S.C. 552, the individual may submit a petition for confidential treatment according to the procedure set forth in CFTC regulations at 17 CFR 145.9 before submitting comments.

II. The Privacy Act

Under the Privacy Act of 1974, 5 U.S.C. 552a, a “system of records” is defined as any group of records under the control of a federal government agency from which information about individuals is retrieved by name or other personal identifier. The Privacy Act establishes the means by which government agencies must collect, maintain, and use personally identifiable information associated with an individual in a government system of records.

Each government agency is required to publish a notice in the Federal Register of a system of records in which the agency identifies and describes each system of records it maintains, the reasons why the agency uses the personally identifying information therein, the routine uses for which the agency will disclose such information outside the agency, and how individuals may exercise their rights under the Privacy Act to determine if the system contains information about them.

III. Notice

SYSTEM NUMBER:

CFTC-45

SYSTEM NAME:

Comments Online.

SECURITY CLASSIFICATION:

Unclassified.

SYSTEM LOCATION:

This system is located in the Commission's principal office at Commodity Futures Trading Commission, Three Lafayette Centre, 1155 21st Street, NW., Washington, DC 20581.

CATEGORIES OF INDIVIDUALS COVERED BY THE SYSTEM:

Individuals providing comments or other input to the Commission in response to proposed rules, industry filings or other Commission request for comments associated with Commission rules, policies or procedures, whether the individuals provide comments or input directly or through their representatives. Any individuals who may be discussed or identified in the comments or input provided by others to the Commission.

CATEGORIES OF RECORDS IN THE SYSTEM:

Incoming comments or other input to the Commission in response to proposed rules, industry filings or other Commission request for comments associated with Commission rules, policies or procedures, provided to the Commission via the web form on the http://www.cftc.gov site, electronic mail, facsimile or postal mail. Comments or input submitted through http://www.cftc.gov include the full name of the submitter, an email address and the name of the organization, if an organization is submitting the comments. The commenter may optionally provide job title, mailing address and phone numbers. The comments or input provided may contain other personal information, although the comment submission instructions advise commenters not to include additional personal or confidential information.

This system excludes comments or input for which the Commission has received and either has approved or not yet decided a Freedom of Information Act “request for confidential treatment.” Records related to such requests are covered under System of Record Notice CFTC-41, “Requests for Confidential Treatment.”

AUTHORITY FOR MAINTENANCE OF THE SYSTEM:

44 U.S.C. 3101, Administrative Procedure Act, 5 U.S.C. 553 et seq., the Commodity Exchange Act, 7 U.S.C. 1 et seq., and rules and regulations promulgated thereunder.

PURPOSE(S):

To collect and maintain in an electronic system feedback from the public and industry groups regarding proposed rules and other Commission regulatory actions in accordance with the Administrative Procedure Act (“APA”) or other statutory or regulatory provisions, as well as input on Commission activities that may not be associated with notice and comment requirements.

ROUTINE USES OF RECORDS MAINTAINED IN THE SYSTEM, INCLUDING CATEGORIES OF USERS AND THE PURPOSES OF SUCH USES:

Comments or input in this system, along with the commenter's name and organization, are published on the http://www.cftc.gov site. In the event a commenter has withdrawn a comment before the comment period has closed or the Commission has determined that a comment contains obscenities or other material deemed inappropriate for publication by the Commission, the comment will be removed from publication on the http://www.cftc.gov site but will be retained the Comments Online database for consideration as required by the APA or as part of the Commission's documentation of a comment withdrawal if requested.

The Comments Online system also contains the commenter's email address and other personal contact information the commenter may voluntarily provide to the Commission, such as phone number. The email address will be used for the Commission to send the commenter a verification of receipt of the comment. The email address and other contact information may be used by the Commission to contact the commenter with questions about his or her submission. Only the commenter's name and organization are made available with the comment or input on http://www.cftc.gov, unless the commenter incorporates other personal information into the text of his or her comment or input.

Also, information in this system may be disclosed in accordance with the blanket routine uses numbered 1 through 19 that appear in the Commission's Privacy Act Systems of Records Notice, 76 FR 5974 (Feb. 2, 2011).

DISCLOSURE TO CONSUMER REPORTING AGENCIES:

None.

POLICIES AND PRACTICES FOR STORING, RETRIEVING, ACCESS CONTROLS, RETAINING, AND DISPOSING OF RECORDS IN THE SYSTEM:

STORAGE:

Paper records are stored in file folders, binders, computer disks, and are uploaded into the Comments Online system. Electronic records, including comments or input and personal information provided through the web form on the http://www.cftc.gov site, by electronic mail or as uploaded into the Comments Online database, are stored on the Commission's network and other electronic media as needed, such as the eLaw system, desktop applications and back-up media.

RETRIEVABILITY:

By name of the individual providing the comment or input, name of the individual on whose behalf a comment or input is provided, number assigned to the comment or input, or the subject matter, such as the proposed rule or industry filing to which the comment or input pertains. Also, by the name of any individual who is identified or discussed in the text of a comment or other input provided by another party.

ACCESS CONTROLS, SAFEGUARDS:

Records in the Comments Online system, including personal information contained in the database and not published on http://www.cftc.gov, are protected from unauthorized access and misuse through various administrative, technical and physical security measures. Technical security measures within CFTC include restrictions on computer access to authorized individuals, required use of strong passwords that are frequently changed, use of encryption for certain data types and transfers, and regular review of security procedures and best practices to enhance security. Physical measures include restrictions on building access to authorized individuals only and maintaining records in lockable offices and filing cabinets.

RETENTION AND DISPOSAL:

The retention and disposal period depends on the nature of the comment or input provided to the Commission. For example, comments that pertain to a Commission proposed rule or industry filing become part of the agency's central files and are kept permanently. Other input to the Commission may be kept for between one and 10 years, depending on the subject matter.

SYSTEM MANAGER(S) AND ADDRESS:

The Commission's Office of the Secretariat, located at the Commodity Futures Trading Commission, Three Lafayette Centre, 1155 21st Street, NW., Washington, DC 20581.

NOTIFICATION PROCEDURE:

Individuals seeking to determine whether this system of records contains information about themselves or seeking access to records about themselves in this system of records, or contesting the content of records about themselves contained in this system of records should address written inquiry to the Office of General Counsel, Paralegal Specialist, Commodity Futures Trading Commission, Three Lafayette Centre, 1155 21st Street, NW., Washington, DC 20581. Telephone (202) 418-5011.

RECORD SOURCE CATEGORIES:

Individuals and organizations providing comments or other input to the Commission.

EXEMPTIONS CLAIMED FOR THIS SYSTEM:

None.

Issued in Washington, DC this 4th day of April, 2011, by the Commission.
Sauntia S. Warfield,
Assistant Secretary of the Commission.

[FR Doc. 2011-8346 Filed 4-6-11; 8:45 am]

BILLING CODE 6351-01-P